DEPARTMENT OF HEALTH AND HUMAN SERVICES

Centers for Disease Control and Prevention

Statement of Organization, Functions, and Delegations of Authority

Part C (Centers for Disease Control and Prevention) of the Statement of Organization Functions, and Delegations of Authority of the Department of Health and Human Services (45 FR 67772-76, dated October 14, 1980, and corrected at 45 FR 69296, October 20, 1980, as amended most recently at 75 FR 10296, dated March 5, 2010) is amended to reflect the reorganization of the Office of Dispute Resolution and Equal Opportunity Office, Office of the Director, Centers for Disease Control and Prevention.

Section C-B, Organization and Functions, is hereby amended as follows: Delete in its entirety the title and functional statement for the Office of Dispute Resolution and Equal Opportunity Office (CAV) and insert the following:

Office of Diversity Management and Equal Employment Opportunity (CAV). The Office of Diversity Management and Equal Employment Opportunity (ODMEEO) is located in the Office of the Director, Centers for Disease Control and Prevention (CDC). The Director, ODMEEO serves as the principal advisor to the Director, CDC, on all equal employment opportunity matters. The mission of the ODMEEO is to ensure an environment that promotes equal employment opportunity and diversity for all individuals, eradicates discrimination and harassment in all forms, and promotes an inclusive environment and values diversity that empowers employees to participate and support CDC's global health mission. In carrying out its mission the ODMEEO: (1) Develops and recommends for adoption CDC-wide equal employment opportunity policies, goals, and priorities to carry out the directives of the U.S. Office of Personnel Management, U.S. Equal Employment Opportunity Commission, and Department of Health and Human Services (DHHS) equal employment opportunity policies and requirements that are mandated by Title VII, Civil Rights Act of 1964; Age Discrimination in Employment Act (ADEA); Rehabilitation Act of 1973; Civil Service Reform Act; 29 CFR 1614, Federal Sector Equal Employment Opportunity; Executive Order 11478, Equal Employment Opportunity in the Federal Government; (2) provides leadership, direction, and technical guidance to CDC managers and staff for the development of comprehensive programs and plans; (3) coordinates and evaluates agency equal employment opportunity operations and plans, including affirmative action; (4) develops plans, programs, and procedures to assure the prompt receipt, investigation, and resolution of complaints of alleged discrimination by reason of race, sex, age, religion, national origin, handicap, or by reason of reprisal or retaliation; (5) coordinates the development of comprehensive special emphasis programs to assure full recognition of the needs of women, Hispanics, other minorities and the handicapped in hiring and employment; (6) identifies needs for ODMEEO functions within CDC and assures the development of a training curriculum for all CDC supervisory personnel; (7) prepares or coordinates the preparation of, reports and analyses designed to reflect the status of employment of women and minorities at CDC and maintains liaison with DHHS and other organizations concerned with equal employment opportunity; (8) ensures effective coordination of ODMEEO activities with CDC personnel and training programs, and with CDC national centers manpower planning and support programs in the health professions; (9) develops a system of structured reviews and evaluations of CDC ODMEEO activities to assure effective operations and accountability; (10) assists in assuring the adequate allocation of resources for ODMEEO including the establishment of guidelines for recruiting, selection, and training of agency personnel; (11) develops and directs research and evaluation studies to focus on, and improve the effectiveness of, ODMEEO program activities; (12) provides direction for the agency's alternative dispute resolution activities; (13) provides direct support for ODMEEO program activities in CDC; and (14) develops a system to improve diversity policies, procedures and practices to ensure that all employees are treated with respect and fairness.

Dated: March 11, 2010.
William P. Nichols,
Chief Operating Officer, Centers for Disease Control and Prevention.

[FR Doc. 2010-6340 Filed 3-23-10; 8:45 am]

BILLING CODE 4160-18-M